NEIGHBORHOOD REINVESTMENT CORPORATION

Sunshine Act Meeting

TIME & DATE: 2 p.m., Friday, September 21, 2001.

PLACE: Neighborhood Reinvestment Corporation, 1325 G Street, NW, Suite 800 Washington, DC 20005.

STATUS: Open.

CONTACT PERSON FOR MORE INFORMATION: Jeffrey T. Bryson, General Counsel/Secretary 202-220-2372.

AGENDA:

I. Call to Order

II. Approval of Minutes: May 31, 2001 Annual Meeting

III. Audit Committee Meetings

a. July 12, 2001

b. September 14, 2001

IV. Budget Committee Meeting

a. August 7, 2001

V. Committee Appointments

VI. Treasurer's Report

VII. Executive Director's Quarterly Management Report

VIII. Strategic Planing Update

IX. Executive Session

X. Adjournment

Jeffrey T. Bryson,
General Counsel/Secretary.

[FR Doc. 01-23172 Filed 9-12-01; 1:54 pm]

BILLING CODE 7570-01-M